DEPARTMENT OF ENERGY

Comment Period Extension for Supplement to the Draft Environmental Impact Statement for a Geologic Repository for the Disposal of Spent Nuclear Fuel and High-Level Radioactive Waste at Yucca Mountain, Nye County, NV

AGENCY: Department of Energy (DOE).

ACTION: Notice of comment period extension.

SUMMARY: On May 4, 2001, the U.S. Department of Energy (DOE) published a Notice of Availability (66 FR 22540) of its Supplement to the Draft Environmental Impact Statement for a Geologic Repository for the Disposal of Spent Nuclear Fuel and High-Level Radioactive Waste at Yucca Mountain, Nye County, Nevada (Draft EIS) (DOE/EIS-0250D-S) and announced a 45-day public comment period ending June 25, 2001. In response to requests from the public, DOE is extending the comment period to July 6, 2001.

DATES: Comments on the Supplement to the Draft EIS are now due by July 6, 2001. DOE will consider all comments received during the comment period in preparation of the Final EIS. Comments received after July 6, 2001 will be considered to the extent practicable.

ADDRESSES: Written comments and requests for further information on the Supplement to the Draft EIS, and requests for copies of the document (hard copy or CD-ROM) should be directed to: Dr. Jane Summerson, EIS Document Manager, M/S 010, U.S. Department of Energy, Office of Civilian Radioactive Waste Management, Yucca Mountain Site Characterization Office, P.O. Box 30307, North Las Vegas, Nevada 89036-0307, Telephone 1-800-967-3477, Facsimile 1-800-967-0739.

Written comments via facsimiles should include the following identifier: “Yucca Mountain Supplement to the Draft EIS.”

Written comments on or requests for copies of the document may also be submitted over the internet via the Yucca Mountain Project website at http://www.ymp.gov, under the listing “Environmental Impact Statement.”

FOR FURTHER INFORMATION CONTACT: Dr. Jane Summerson, EIS Document Manager, M/S 010, U.S. Department of Energy, Office of Civilian Radioactive Waste Management, Yucca Mountain Site Characterization Office, P.O. Box 30307, North Las Vegas, Nevada 89036-0307, Telephone 1-800-967-3477, Facsimile 1-800-967-0739.

For general information on the DOE NEPA process, contact: Ms. Carol M. Borgstrom, Director, Office of NEPA Policy and Compliance (EH-42), U.S. Department of Energy, 1000 Independence Avenue, SW., Washington, DC 20585, Telephone 1-202-586-4600, or leave a message at 1-800-472-2756.

Issued in Washington, DC, June 18, 2001.
Ronald Milner,
Chief Operating Officer, Office of Civilian Radioactive Waste Management.

[FR Doc. 01-15682 Filed 6-21-01; 8:45 am]

BILLING CODE 6450-01-U